DEPARTMENT OF TRANSPORTATION

Federal Aviation Administration

14 CFR Part 39

[Docket No. FAA-2006-23819; Directorate Identifier 2005-NM-223-AD; Amendment 39-14588; AD 2006-10-04]

RIN 2120-AA64

Airworthiness Directives; Boeing Model 747-200B, 747-200C, 747-200F, 747-300, 747-400, and 747SP Series Airplanes

AGENCY: Federal Aviation Administration (FAA), Department of Transportation (DOT).

ACTION: Final rule.

SUMMARY: The FAA is adopting a new airworthiness directive (AD) for certain Boeing Model 747-200B, 747-200C, 747-200F, 747-300, 747-400, and 747SP series airplanes. This AD requires doing a detailed inspection of the left and right longeron extension fittings, and corrective action if necessary. This AD results from cracking found in the longeron extension fitting at body station 1480 due to accidental damage during production. We are issuing this AD to detect and correct cracking in the longeron extension fitting, which could result in rapid decompression of the airplane and possible in-flight breakup of the airplane fuselage.

DATES: This AD becomes effective June 16, 2006.

The Director of the Federal Register approved the incorporation by reference of a certain publication listed in the AD as of June 16, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Nicholas Kusz, Aerospace Engineer, Airframe Branch, ANM-120S, FAA, Seattle Aircraft Certification Office, 1601 Lind Avenue, SW., Renton, Washington 98055-4056; telephone (425) 917-6432; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 747-200B, 747-200C, 747-200F, 747-300, 747-400, and 747SP series airplanes. That NPRM was published in the Federal Register on February 8, 2006 (71 FR 6400). That NPRM proposed to require doing a detailed inspection of the left and right longeron extension fittings, and corrective action if necessary.

Comments

We provided the public the opportunity to participate in the development of this AD. We have considered the single comment received. The commenter, Boeing, supports the NPRM.

Conclusion

We have carefully reviewed the available data, including the comment received, and determined that air safety and the public interest require adopting the AD as proposed.

Interim Action

This AD is considered to be interim action. The inspection reports that are required by this AD will enable the FAA to obtain better insight into the nature, cause, and extent of the cracking. Once we have received the inspection reports, we may consider further rulemaking to include additional airplanes.

Costs of Compliance

There are about 126 airplanes of the affected design in the worldwide fleet. This AD affects about 25 airplanes of U.S. registry. The required inspection will take about 1 work hour per airplane, at an average labor rate of $65 per work hour. Based on these figures, the estimated cost of the AD for U.S. operators is $1,625, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-10-04 Boeing: Amendment 39-14588. Docket No. FAA-2006-23819; Directorate Identifier 2005-NM-223-AD.

Effective Date

(a) This AD becomes effective June 16, 2006.

Affected ADs

(b) None.

Applicability

(c) This AD applies to Boeing Model 747-200B, 747-200C, 747-200F, 747-300, 747-400, and 747SP series airplanes, certificated in any category; as identified in Boeing Alert Service Bulletin 747-53A2515, dated October 20, 2005.

Unsafe Condition

(d) This AD results from cracking found in the longeron extension fitting at body station 1480 due to accidental damage during production. We are issuing this AD to detect and correct cracking in the longeron extension fitting, which could result in rapid decompression of the airplane and possible in-flight breakup of the airplane fuselage.

Compliance

(e) You are responsible for having the actions required by this AD performed within the compliance times specified, unless the actions have already been done.

Detailed Inspection

(f) At the applicable compliance time specified in paragraph (f)(1) or (f)(2) of this AD, do a detailed inspection of the left and right longeron extension fittings for damage, and before further flight do the corrective action if applicable, by accomplishing all the applicable actions specified in the Accomplishment Instructions of Boeing Alert Service Bulletin 747-53A2515, dated October 20, 2005.

Note 1: Boeing Alert Service Bulletin 747-53A2515, dated October 20, 2005, refers to Boeing Alert Service Bulletin 747-53A2390, dated July 31, 1997; or Revision 1, dated July 6, 2000, as an additional source of service information for replacing a damaged longeron fitting with a new longeron extension fitting.

(1) For airplanes that have accomplished the inspection of the splice area for cracking as specified in Boeing Alert Service Bulletin 747-53A2390, dated July 31, 1997; or Revision 1, dated July 6, 2000: Inspect in accordance with paragraph (f) of this AD before the airplane has accumulated 10,000 total flight cycles, or within 1,000 flight cycles after the effective date of this AD, whichever is later.

(2) For airplanes that have not accomplished the inspection of the splice area for cracking as specified in Boeing Alert Service Bulletin 747-53A2390, dated July 31, 1997; or Revision 1, dated July 6, 2000: Inspect in accordance with paragraph (f) of this AD before the airplane has accumulated 10,000 total flight cycles, or within 250 flight cycles after the effective date of this AD, whichever is later.

Reporting Requirement

(g) If any damage is found to any longeron extension fitting during the inspection required by paragraph (f) of this AD: Submit a report of the findings of the inspection required by paragraph (f) of this AD to the Manager, Seattle Aircraft Certification Office (ACO), FAA, Transport Airplane Directorate, 1601 Lind Avenue, SW., Renton, Washington 98055-4056; fax (425) 917-6590, at the applicable time specified in paragraph (g)(1) or (g)(2) of this AD. The report must include the airplane serial number and line number, identify the operator of the affected airplane, specify whether the cracking is within the limits given in the service bulletin, and specify if the cracking was found on the left or right or both longeron extension fittings. Under the provisions of the Paperwork Reduction Act of 1980 (44 U.S.C. 3501 et seq.), the Office of Management and Budget (OMB) has approved the information collection requirements contained in this AD and has assigned OMB Control Number 2120-0056.

(1) If the inspection was done on or after the effective date of this AD: Submit the report within 20 days after the inspection.

(2) If the inspection was done prior to the effective date of this AD: Submit the report within 20 days after the effective date of this AD.

Alternative Methods of Compliance (AMOCs)

(h)(1) The Manager, Seattle ACO, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(i) You must use Boeing Alert Service Bulletin 747-53A2515, dated October 20, 2005, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on April 28, 2006.
Ali Bahrami,
Manager, Transport Airplane Directorate, Aircraft Certification Service.

[FR Doc. 06-4310 Filed 5-11-06; 8:45 am]

BILLING CODE 4910-13-P